DEPARTMENT OF THE INTERIOR

Bureau of Land Management

[AZ 069-01-1610-DO-241E]

Ironwood Forest National Monument

AGENCY: Tucson Field Office, Bureau of Land Management, Tucson, Arizona.

ACTION: Notice of Intent to (1) prepare a Resource Management Plan (RMP) for the Ironwood Forest National Monument, designated on June 9, 2000, and (2) amend the 1989 Phoenix RMP to consider land tenure adjustments in support of the Pima County Sonoran Desert Conservation Plan. These two actions will require a single Environmental Impact Statement (EIS). These lands are located northwest of Tucson in Pima and Pinal Counties, Arizona.

SUMMARY: This document provides notice that the Bureau of Land Management (BLM) intends to prepare a RMP for the Ironwood Forest National Monument and an amendment to the Phoenix RMP to consider land tenure adjustments with one EIS prepared for both plans. The plan development will continue and expand the planning approach in the Tucson Field Office, which means working closely with interested parties to identify the management decisions that are best suited to the needs of the public. This collaborative process will take into account local, regional, and national needs and concerns. The planning effort will include the Ironwood Forest National Monument and other lands managed by the Tucson Field Office. The planning effort will fulfill the needs and obligations set forth by the National Environmental Policy Act (NEPA), the Federal Land Policy and Management Act (FLPMA), the National Monument proclamation, and BLM management policies. This notice also initiates the public scoping process to examine issues and develop planning criteria to guide the planning process. Formal scoping will last a minimum of 60 days. The scoping process will include an evaluation of the existing RMP in the context of the needs and interests of the public and protection of the objects of scientific and historic interest in the National Monument.

ADDRESSES: For further information and/or to have your name added to our mailing list, contact Tony Herrell, Telephone 520-258-7203, Bureau of Land Management, Tucson Field Office, 12661 East Broadway, Tucson, Arizona 85748; Fax 520-258-7238. Comments, including names and street addresses of respondents, will be available for public review at the above address during regular business hours 7:45 a.m. to 4:15 p.m., Monday through Friday, except holidays, and may be published as part of the EIS. Individual respondents may request confidentiality. If you wish to withhold your name or street address from public review or from disclosure under the Freedom of Information Act, you must state this prominently at the beginning of your written comment. Such requests will be honored to the extent allowed by law. All submissions from organizations or businesses, and from individuals identifying themselves as representatives or officials of organizations or businesses, will be made available for public inspection in their entirety.

SUPPLEMENTARY INFORMATION: The designation of the Ironwood Forest National Monument and the changing needs and interests of the public necessitate the development of a RMP for the Ironwood Forest National Monument. In addition, the Phoenix RMP will be amended to address land tenure adjustments in support of the Pima County Sonoran Desert Conservation Plan. These two actions require a single EIS. Public meetings will be held throughout the scoping and preparation period. In order to ensure local community participation and input, meeting locations will occur in local communities in the Tucson area, including Marana, Eloy, Casa Grande, and Picture Rocks, as well as in the Phoenix area. At least 15 days public notice will be given for activities where the public is invited to attend. The minutes and list of attendees for each meeting will be available to the public and open for 30 days to any participants who wish to clarify the views they expressed. Written comments will also be accepted throughout the planning process at the address shown above. Meetings and comment deadlines will be announced through the local news media, newsletters and the BLM web site (www.az.blm.gov). Additional opportunities for public participation will be provided through comment on the alternatives and upon publishing the draft RMP/Draft EIS. Documents pertinent to this proposal may be examined at the Tucson Field Office located in Tucson, Arizona. Early participation by all those interested is encouraged and will help determine the future management of the Ironwood Forest National Monument.

Preliminary issues and management concerns have been identified by BLM personnel and other agencies and in meetings with individuals and user groups. They represent BLM's knowledge to date on the existing issues and concerns with current management. The major issue themes that will be addressed in the plan effort are: Management and protection of Monument resources; appropriate scientific research activities; visitor use and safety; identification of protection measures for cultural resources, sensitive plant and animal species and other special resources; public access and transportation within the Monument; commercial and industrial uses; integrating Monument management with tribal, other agency and community needs; and addressing urban interface and land tenure issues. Other issues may be identified by interested parties during the public scoping phase of the planning. After gathering public comments on what issues the plan should address, the suggested issues will be placed in one of three categories:

1. Issues to be resolved in the plan.

2. Issues resolved through policy or administrative action.

3. Issues beyond the scope of this plan.

Rationale will be provided for each issue placed in category 2 or 3. In addition to the preceding major issues, management questions and concerns to be addressed in the plan effort include, but are not limited to: Native American consultation; rangeland management; watershed management; wildlife management; soil, water, and vegetation management; air quality; and hazardous materials. Disciplines corresponding to these issue areas will be represented and used during the planning process. Where necessary, outside expertise may be used.

Background Information: The Ironwood Forest National Monument was created to protect the resources of the Sonoran Desert. The Ironwood Forest National Monument Presidential Proclamation of June 9, 2000, designated about 129,068 acres of land in Pima and Pinal Counties, Arizona, managed by the BLM as the Ironwood Forest National Monument.

Before designation, management of the area was guided by the Phoenix RMP, completed in 1989. Previously completed wildlife habitat plans, such as the Silverbell Habitat Management Plan, allotment management plans, as well as other activity level plans provide specific management direction and actions on lands within and immediately adjacent to the Ironwood Forest National Monument. As these plans address many significant issues, those decisions that are still valid will be incorporated into the new plan. Pima County, in cooperation with the U.S. Fish and Wildlife Service and with the unanimous endorsement of the Board of Supervisors, spearheaded the planning effort that addressed growth issues in the county, largely related to construction delays because of the identification of threatened and endangered species. This local, collaborative effort involved all interested parties in developing the Sonoran Desert Conservation Plan. This collaborative approach will continue to be used in the planning for the Ironwood Forest National Monument. Among the management prescriptions included in the Sonoran Desert Conservation Plan are the identification of lands critical to threatened and endangered species throughout Pima County, including the recommendation to designate the Ironwood Forest National Monument.

Elaine Marquis-Brong,
Director, National Landscape Conservation System, Bureau of Land Management.

[FR Doc. 02-9594 Filed 4-23-02; 8:45 am]

BILLING CODE 4310-32-P